DEPARTMENT OF THE INTERIOR

Bureau of Land Management

[CO-110-03-1220-PA]

Notice of Intent To Prepare a Plan Amendment and Environmental Assessment

AGENCY: Bureau of Land Management, Interior.

ACTION: Notice of intent to prepare a Travel Management Plan Amendment to the White River Resource Management Plan (RMP) for the Wilson Creek area in Rio Blanco, and Moffat Counties, Colorado.

SUMMARY: In accordance with the National Environmental Policy Act, notice is hereby given that the Bureau of Land Management (BLM) is preparing an EA and RMP to address management of roads and trails of the approximate 6,805 acre Wilson Creek area administered by the White River Field Office. The Wilson Creek Area is approximately 10 miles north of Meeker, Colorado. Early participation is encouraged and will help determine the future management of public lands administered by the White River Field Office.

DATES: The official public scoping for this planning effort commences with the publication of this notice. The public is invited to submit scoping comments to the address listed below for 60 days following the date that this notice is published in the Federal Register. BLM will publish exact dates, times, and locations for public meetings through media announcements, Internet postings, and mailings at least 15 days in advance of the meetings. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

ADDRESSES: Written comments should be sent to the Bureau of Land Management, White River Field Office, 73544 Highway 64, Meeker, Colorado 81641 or e-mail Chris_Ham@co.blm.gov.

FOR FURTHER INFORMATION CONTACT: Chris Ham, Outdoor Recreation Planner, Telephone (970) 878-3845; E-mail—Chris_Ham@co.blm.gov.

SUPPLEMENTARY INFORMATION: The use of off-highway vehicles (OHVs), snowmobiles, mountain bikes, and horses has greatly increased in recent years. These are important uses of public lands, especially OHV use in the Wilson Creek Area. They have also created several management concerns:

(1) The proliferation of new, unplanned roads and trails that have or will create unacceptable resource damage.

(2) Existing land use designations that allow cross-country travel within the Wilson Creek area during a portion of the year.

(3) Private land trespass issues created by land ownership patterns.

(4) Effects of OHV use on quality hunting experience.

The White River Field Office has and will continue to consult, communicate and cooperate with local landowners, recreationists, the Northwest Colorado Resource Advisory Committee and other affected interest groups to develop and design a travel system that will provide access for recreation, business and industry needs while sustaining land health standards.

BLM will use an interdisciplinary approach to develop the plan amendment and environmental assessment in order to consider all identified resource issues and concerns. Disciplines involved in the planning process will include specialists with expertise in outdoor recreation, rangeland management, archaeology, wildlife, hydrology, minerals, and soils.

Dated: February 5, 2003.
Kent E. Walter,
Field Manager.

[FR Doc. 03-7166 Filed 3-25-03; 8:45 am]

BILLING CODE 4310-JB-P